DEPARTMENT OF THE INTERIOR

Bureau of Land Management

[14X LLORE00000.L63500000.DQ0000.LXSS021H0000.HAG14-0117]

Notice of Availability of the Proposed Resource Management Plan and Final Environmental Impact Statement for the West Eugene Wetlands in Oregon

AGENCY: Bureau of Land Management.

ACTION: Notice of availability.

SUMMARY: In accordance with the National Environmental Policy Act of 1969, as amended, and the Federal Land Policy and Management Act of 1976, as amended, the Bureau of Land Management (BLM) has prepared a Proposed Resource Management Plan (RMP) and Final Environmental Impact Statement (EIS) for the West Eugene Wetlands and by this notice is announcing its availability.

DATES: BLM planning regulations state that any person who meets the conditions as described in the regulations may protest the BLM's Proposed RMP/Final EIS. A person who meets the conditions and files a protest must file the protest within 30 days of the date that the Environmental Protection Agency publishes its Notice of Availability in the Federal Register.

ADDRESSES: Copies of the West Eugene Wetlands Final EIS/Proposed RMP have been sent to affected Federal, State, and local government agencies and to other stakeholders including public libraries in the Project Area, tribal governments, and to interested parties that previously requested a copy. Copies of the Proposed RMP/Final EIS are available for public inspection at at the Eugene District Office 3106 Pierce Parkway, Springfield, OR, 97477. Interested persons may also review the Proposed RMP/Final EIS on the Internet at http://www.blm.gov/or/districts/eugene/plans/eugenermp.php. All protests must be in writing and mailed to one of the following addresses:

Regular Mail: BLM Director (210), Attention: Protest Coordinator, P.O. Box 71383, Washington, DC 20024-1383.

Overnight Delivery: BLM Director (210), Attention: Protest Coordinator, 20 M Street SE., Room 2134LM, Washington, DC 20003.

FOR FURTHER INFORMATION CONTACT: Panchita Paulete, District Planning and Environmental Coordinator, telephone 541-683-6976; address 3106 Pierce Parkway, Suite E; Springfield, OR 97477; or email BLM_OR_EU_Mail@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: In the West Eugene Wetlands Final EIS/Proposed RMP, the BLM analyzes the environmental consequences of seven alternatives for managing approximately 1,340 acres of BLM-administered lands in and near the city of Eugene, in Lane County, Oregon. The planning area does not currently have an RMP. The planning area is made up of acquired lands and survey hiatuses. This RMP is being developed separately from the Eugene District RMP, because the planning area is geographically and ecologically distinct from the rest of the BLM-administered lands in the Eugene District, and many of the resources and issues in the planning area are unrelated to those addressed in the Eugene District RMP. The approved West Eugene Wetlands RMP will apply only to the BLM-administered lands in the West Eugene Wetlands.

The purpose of the action is to manage the planning area to contribute to the recovery of species listed under the Endangered Species Act, while providing other benefits. There are specific considerations in the planning area that lead the BLM to focus management on threatened and endangered species: the scarcity of the listed species and their habitat; the importance of the planning area to the recovery of the listed species; and the purposes for which the BLM acquired the lands in the planning area. Therefore, the purpose and need for this RMP is more specific than the broad mandate of multiple-use alone.

The West Eugene Wetlands Proposed RMP/Final EIS analyzes in detail six action alternatives and the No Action alternative. The No Action alternative would continue the current management approach into the future with no change in the management actions and level of management intensity in the planning area. Because the current management approach was not developed in an RMP, there are no land use allocations, management objectives, or management direction established for the planning area.

The design of the action alternatives varies primarily in the amount and location of lands within the planning area that would be allocated to the restoration of threatened and endangered species habitat. The action alternatives also vary in the management emphasis for lands which are not managed for habitat restoration. Additionally, the action alternatives vary in whether herbicides would be included as a management tool. Under the action alternatives, most or all of the planning area would be allocated to two land use allocations:

• Prairie Restoration Area, which would have a management objective to restore and maintain habitat for prairie-related species; and

• Natural Maintenance Area, which would have a management objective to maintain existing resources and provide opportunities for a variety of goods and services.

Alternative 1 would allocate most of the planning area to the Prairie Restoration Area. The Proposed RMP (Alternative 2A—Modified), would allocate to the Prairie Restoration Area all designated critical habitat, including a previously overlooked critical habitat area adjacent to KL-12B; some extant populations of Willamette daisy and Bradshaw's lomatium; and 93 acres of contiguous high-quality habitat to support streaked horned lark. This alternative would enhance recreation opportunities to the extent compatible with threatened and endangered species management.

Alternative 2B would allocate to the Prairie Restoration Area all designated critical habitat. Alternative 2B would emphasize providing commodities and services to the extent compatible with threatened and endangered species management, and would make approximately two-thirds of the planning area open to saleable mineral development. Alternatives 3A, 3B, and 3C would allocate to the Prairie Restoration Area all good quality habitat that is currently occupied by threatened or endangered species. Alternative 3C and the Proposed RMP would enhance recreation opportunities to the extent compatible with threatened and endangered species management.

Alternatives 1, 2B, and 3A, and the Proposed RMP would include herbicides among the management tools.

The only nomination for an Area of Critical Environmental Concern (ACEC) received in this planning effort was to continue designation of the currently designated Long Tom ACEC. Under Alternatives 1, 3A, 3B, and 3C, and the Proposed RMP, the site of the currently designated Long Tom ACEC would be included within the Prairie Restoration Area and would not need special management to protect the relevant and important values of the ACEC. Therefore, under these alternatives, the ACEC designation for this site would be removed. Under the No Action alternative and Alternative 2B, the Long Tom site would continue to be designated as an ACEC.

Under all action alternatives, motorized vehicle use would be limited to designated roads throughout the planning area. This planning effort will include implementation decisions related to travel management networks, including a travel management plan identifying the specific roads and trails that will be available for public use and the limitations on use of roads and trails. These implementation decisions are not protestable, and upon approval would be appealable to the Interior Board of Land Appeals (43 CFR 1610.5). The land-use planning process was initiated on June 8, 2011, through a Notice of Intent published in the Federal Register, notifying the public of a formal scoping period and soliciting public participation. Cooperating agencies in the preparation of this land use plan are the United States Army Corps of Engineers, City of Eugene Parks and Open Space Division, and the Confederated Tribes of Grand Ronde.

Comments on the Draft RMP/Draft EIS received from the public and internal BLM review were considered and incorporated as appropriate into the proposed plan. Public comments resulted in the addition of clarifying text, but did not significantly change proposed land use plan decisions.

Instructions for filing a protest with the Director of the BLM regarding the proposed RMP/final EIS may be found in the “Dear Reader” Letter of the West Eugene Wetlands proposed RMP/final EIS and at 43 CFR 1610.5-2. All protests must be in writing and mailed to the appropriate address, as set forth in the ADDRESSES section above. Emailed protests will not be accepted as valid protests unless the protesting party also provides the original letter by either regular or overnight mail postmarked by the close of the protest period. Under these conditions, the BLM will consider the emailed protest as an advance copy and it will receive full consideration. If you wish to provide the BLM with such advance notification, please direct emails to protest@blm.gov

Before including your phone number, email address, or other personal identifying information in your protest, you should be aware that your entire protest—including your personal identifying information—may be made publicly available at any time. While you can ask us in your protest to withhold your personal identifying information from public review, we cannot guarantee that we will be able to do so.

Authority: 40 CFR 1506.6, 40 CFR 1506.10, 43 CFR 1610.2, 43 CFR 1610.5

Robert B. Towne,
Acting Eugene District Manager.

[FR Doc. 2014-26618 Filed 11-10-14; 8:45 am]

BILLING CODE 4310-33-P